DEPARTMENT OF TRANSPORTATION

Federal Aviation Administration

[Summary Notice No.-2020-34]

Petition for Exemption; Summary of Petition Received; Jet Linx Aviation, LLC

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before May 26, 2020.

ADDRESSES: Send comments identified by docket number FAA-2020-0310 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Megan Blatchford, (202) 267-3896, Office of Rulemaking, Federal Aviation Administration, 800 Independence Avenue SW, Washington, DC 20591.

This notice is published pursuant to 14 CFR 11.85.

Issued in Washington, DC, on May 13, 2020.
Brandon Roberts,
Acting Executive Director, Office of Rulemaking.

Petition for Exemption

Docket No.: FAA-2020-0310.

Petitioner: Jet Linx Aviation, LLC.

Section of 14 CFR Affected: §§ 135.337(b)(2) and (b)(6).

Description of Relief Sought: Jet Linx Aviation, LLC (Jet Linx) seeks relief from §§ 135.337(b)(2) and (b)(6) of Title 14 of the Code of Federal Regulations to allow Jet Linx to expand the authority of certain check pilots to conduct § 135.299 line checks when those check pilots have not complied with all the requirements to act as pilot in command of that aircraft in operations under part 135. Due to the COVID-19 virus, FAA inspectors are unable to provide line checks for the company. Jet Linx has insufficient line check pilots to fulfill their need.

[FR Doc. 2020-10665 Filed 5-18-20; 8:45 am]

BILLING CODE 4910-13-P